DEPARTMENT OF LABOR

Occupational Safety and Health Administration

[Docket No. NRTL2-2001]

TUV America, Inc., Application for Expansion of Recognition

AGENCY: Occupational Safety and Health Administration (OSHA), Labor.

ACTION: Notice.

SUMMARY: This notice announces the application of TUV America, Inc., (TUVAM) for expansion of its recognition to use additional test standards, and presents the Agency's preliminary finding. This preliminary finding does not constitute an interim or temporary approval of this application.

DATES: You must submit information or comments, or any request for extension of the time to comment, by the following dates:

• Hard copy: Your information or comments must be submitted (postmarked or sent) by June 2, 2005.

• Electronic transmission or facsimile: Your comments must be sent by June 2, 2005.

ADDRESSES: You may submit information or comments to this notice—identified by docket number NRTL2-2001—by any of the following methods:

• Federal eRulemaking Portal: http://www.regulations.gov. Follow the instructions for submitting comments.

• OSHA Web site: http://ecomments.osha.gov. Follow the instructions for submitting comments on OSHA's Web page.

• Fax: If your written comments are 10 pages or fewer, you may fax them to the OSHA Docket Office at (202) 693-1648.

• Regular mail, express delivery, hand delivery and courier service: Submit three copies to the OSHA Docket Office, Docket No. NRTL2-2001, U.S. Department of Labor, 200 Constitution Avenue, NW., Room N-2625, Washington, DC 20210; telephone (202) 693-2350. (OSHA's TTY number is (877) 889-5627). OSHA Docket Office hours of operation are 8:15 a.m. to 4:45 p.m., e.s.t.

Instructions: All comments received will be posted without change to http://dockets.osha.gov, including any personal information provided. OSHA cautions you about submitting personal information such as social security numbers and birth dates.

Docket: For access to the docket to read background documents or comments received, go to http://dockets.osha.gov. Contact the OSHA Docket Office for information about materials not available through the OSHA Web page and for assistance in using the Web page to locate docket submissions.

Extension of Comment Period: Submit requests for extensions concerning this notice to: Office of Technical Programs and Coordination Activities, NRTL Program, Occupational Safety and Health Administration, U.S. Department of Labor, Room N3653, 200 Constitution Avenue, NW., Washington, DC 20210. Or fax to (202) 693-1644.

FOR FURTHER INFORMATION CONTACT: Bernard Pasquet, Office of Technical Programs and Coordination Activities, NRTL Program, Occupational Safety and Health Administration, U.S. Department of Labor, 200 Constitution Avenue, NW., Room N3653, Washington, DC 20210, or phone (202) 693-2110.

SUPPLEMENTARY INFORMATION:

Notice of Application

The Occupational Safety and Health Administration (OSHA) hereby gives notice that TUV America, Inc., (TUVAM) has applied for expansion of its current recognition as a Nationally Recognized Testing Laboratory (NRTL). TUVAM's expansion request covers the use of additional test standards. OSHA's current scope of recognition for TUVAM may be found in the following informational Web page: http://www.osha-slc.gov/dts/otpca/nrtl/tuvam.html.

OSHA recognition of an NRTL signifies that the organization has met the legal requirements in section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha-slc.gov/dts/otpca/nrtl/index.html.

The most recent notice published by OSHA for TUVAM's recognition covered its initial recognition, which became effective on January 25, 2002 (67 FR 3737).

The current addresses of the TUVAM facilities already recognized by OSHA are: TUV Product Services (TUVAM), 5 Cherry Hill Drive, Danvers, Massachusetts 01923; TUV Product Services (TUVAM), 10040 Mesa Rim Road, San Diego, California 92121; and TUV Product Services (TUVAM), 1775 Old Highway 8 NW, Suite 104, New Brighton (Minneapolis), Minnesota 55112.

General Background on the Application

TUVAM has submitted an application, dated August 1, 2003, (see Exhibits 7 and 7-1) to expand its recognition to include 45 additional test standards. The NRTL Program staff has determined that one of these standards is not an “appropriate test standard” within the meaning of 29 CFR 1910.7(c). The staff makes this determination in processing the expansion request of any NRTL. Therefore, OSHA would approve 44 test standards for the expansion. Following review of the application, OSHA requested certain additional information from TUVAM and deferred action on the application pending receipt of this information. The NRTL adequately responded recently to that request, permitting OSHA to resume processing of the application.

TUVAM seeks recognition for testing and certification of products for demonstration of conformance to the following 44 test standards:

UL 22 Amusement and Gaming Machines.

UL 197 Commercial Electric Cooking Appliances.

UL 250 Household Refrigerators and Freezers.

UL 291 Automated Teller Systems.

UL 427 Refrigerating Units.

UL 467 Electrical Grounding and Bonding Equipment.

UL 471 Commercial Refrigerators and Freezers.

UL 499 Electric Heating Appliances.

UL 507 Electric Fans.

UL 508a Industrial Control Panels.

UL 508c Power Conversion Equipment.

UL 541 Refrigerated Vending Machines.

UL 551 Transformer-Type Arc-Welding Machines.

UL 763 Motor-Operated Commercial Food Preparing Machines.

UL 873 Temperature-Indicating and -Regulating Equipment.

UL 923 Microwave Cooking Appliances.

UL 963 Sealing, Wrapping, and Marking Machines.

UL 982 Motor-operated Household Food Preparing Machines.

UL 998 Humidifiers.

UL 1004 Electric Motors.

UL 1005 Electric Flatirons.

UL 1017 Vacuum Cleaners, Blower Cleaners, and Household Floor Finishing Machines.

UL 1026 Electric Household Cooking and Food Serving Appliances.

UL 1082 Household Electric Coffee Makers and Brewing-Type Appliances.

UL 1083 Household Electric Skillets and Frying-Type Appliances.

UL 1090 Electric Snow Movers.

UL 1236 Battery Chargers for Charging Engine-Starter Batteries.

UL 1278 Movable and Wall- or Ceiling-Hung Electric Room Heaters.

UL 1310 Class 2 Power Units.

UL 1448 Electric Hedge Trimmers.

UL 1450 Motor-Operated Air Compressors, Vacuum Pumps and Painting Equipment.

UL 1492 Audio-Video Products and Accessories.

UL 1585 Class 2 and Class 3 Transformers.

UL 164 Motor-Operated Massage and Exercise Machines.

UL 1662 Electric Chain Saws.

UL 1740 Industrial Robots and Robotic Equipment.

UL 1995 Heating and Cooling Equipment.

UL 2200 Stationary Engine Generator Assemblies.

UL 60335-1 Safety of Household and Similar Electrical Appliances, Part 1: General Requirements.

UL 60335-2-8 Household and Similar Electrical Appliances, Part 2; Particular Requirements for Electric Shavers, Hair Clippers, and Similar Appliances.

UL 60335-2-34 Household and Similar Electrical Appliances, Part 2; Particular Requirements for Motor-Compressors.

UL 61010A-2-010 Electrical Equipment for Laboratory Use; Part 2: Particular Requirements for Laboratory Equipment for the Heating of Materials.

UL 61010A-2-041 Electrical Equipment for Laboratory Use; Part 2: Particular Requirements for Autoclaves Using Steam for the Treatment of Medical Materials for Laboratory Processes.

UL 61010A-2-051 Electrical Equipment for Laboratory Use; Part 2: Particular Requirements for Laboratory Equipment for Mixing and Stirring.

OSHA's recognition of TUVAM, or any NRTL, for a particular test standard is limited to equipment or materials (i.e., products) for which OSHA standards require third party testing and certification before use in the workplace. Consequently, any NRTL's scope of recognition excludes any product(s) that fall within the scope of a test standard, but for which OSHA standards do not require NRTL testing and certification.

Many of the UL test standards listed above also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Preliminary Finding on the Application

TUVAM has submitted an acceptable request for expansion of its recognition as an NRTL. In connection with this request, OSHA performed an on-site review of TUVAM's NRTL Danvers facility and, in the on-site review report, the assessor recommended the expansion for the additional standards (see Exhibit 8). Our review of the application file, the on-site review report, and other pertinent documents indicate that TUVAM can meet the requirements, as prescribed by 29 CFR 1910.7, for the expansion for the additional test standards listed above. This preliminary finding does not constitute an interim or temporary approval of the application.

OSHA welcomes public comments, in sufficient detail, as to whether TUVAM has met the requirements of 29 CFR 1910.7 for expansion of its recognition as a Nationally Recognized Testing Laboratory. Your comments should consist of pertinent written documents and exhibits. Should you need more time to comment, you must request it in writing, including reasons for the request. OSHA must receive your written request for extension at the address provided above no later than the last date for comments. OSHA will limit any extension to 30 days, unless the requester justifies a longer period. We may deny a request for extension if it is not adequately justified. You may obtain or review copies of TUVAM's requests, the on-site review report, and all submitted comments, as received, by contacting the Docket Office, Room N2625, Occupational Safety and Health Administration, U.S. Department of Labor, at the above address. Docket No. NRTL2-2001 contains all materials in the record concerning TUVAM's application.

The NRTL Program staff will review all timely comments and, after resolution of issues raised by these comments, will recommend whether to grant TUVAM's expansion request. The Agency will make the final decision on granting the expansion and, in making this decision, may undertake other proceedings that are prescribed in Appendix A to 29 CFR Section 1910.7. OSHA will publish a public notice of this final decision in the Federal Register.

Signed at Washington, DC this 9th day of May, 2005.
Jonathan L. Snare,
Acting Assistant Secretary.

[FR Doc. 05-9868 Filed 5-17-05; 8:45 am]

BILLING CODE 4510-26-P